DEPARTMENT OF THE INTERIOR

Bureau of Ocean Energy Management

[OMB Control Number 1010-0048; Docket ID: BOEM-2017-0016]

Agency Information Collection Activities; Geological and Geophysical Explorations of the Outer Continental Shelf

AGENCY: Bureau of Ocean Energy Management, Interior.

ACTION: Notice of Information Collection; request for comment.

SUMMARY: In accordance with the Paperwork Reduction Act of 1995, the Bureau of Ocean Energy Management (BOEM) is proposing to renew an information collection request with revisions.

DATES: Interested persons are invited to submit comments on or before October 23, 2020.

ADDRESSES: Written comments and recommendations for the proposed information collection should be sent to the Office of Management and Budget's Desk Officer for the Department of the Interior within 30 days of publication of this notice to www.reginfo.gov/public/do/PRAMain. Find this information collection by selecting “Currently under 30-day Review—Open for Public Comments” or by using the search function. Please provide a copy of your comments to the BOEM Information Collection Clearance Officer, Anna Atkinson, Bureau of Ocean Energy Management, 45600 Woodland Road, Sterling, Virginia 20166; or by email to anna.atkinson@boem.gov. Please reference Office of Management and Budget (OMB) Control Number 1010-0048 in the subject line of your comments.

FOR FURTHER INFORMATION CONTACT: To request additional information about this ICR, contact Anna Atkinson by email, or by telephone at 703-787-1025. You may also view the ICR at http://www.reginfo.gov/public/do/PRAMain.

SUPPLEMENTARY INFORMATION: In accordance with the Paperwork Reduction Act of 1995, BOEM provides the general public and other Federal agencies with an opportunity to comment on new, proposed, revised, and continuing collections of information. This helps BOEM assess the impact of the information collection requirements and minimize the public's reporting burden. It also helps the public understand BOEM's information collection requirements and provide the requested data in the desired format.

Abstract: This information collection request concerns the paperwork requirements in the regulations in 30 CFR part 551, Geological and Geophysical (G&G) Explorations of the Outer Continental Shelf. This request also covers Form BOEM-0327.

Section 11(g) of the Outer Continental Shelf Lands Act (OCSLA), as amended (43 U.S.C. 1340(g)), authorizes the Secretary of the Interior to prescribe rules and regulations to govern the issuance of permits for G&G exploration on the OCS. The OCSLA at § 11 states that “any person authorized by the Secretary may conduct geological and geophysical explorations in the [O]uter Continental Shelf, which do not interfere with or endanger actual operations under any lease maintained or granted pursuant to this subchapter, and which are not unduly harmful to aquatic life in such area.” The section further provides that permits to conduct such activities may be issued only if it is determined that: The applicant is qualified; the activities will not interfere with or endanger operations under any lease issued or maintained pursuant to OCSLA; and the activities will not be unduly harmful to aquatic life, result in pollution, create hazardous or unsafe conditions, unreasonably interfere with other uses of the area, or disturb any site, structure, or object of historical or archaeological significance.

Applicants for permits are required to submit Form BOEM-0327 to provide the information necessary to evaluate their qualifications, and upon approval, respondents are issued a permit. Once an application is reviewed and approved, a permit (Form BOEM-0328 or Form BOEM-0329) is signed by BOEM and the permittee.

The Independent Offices Appropriations Act of 1950 (31 U.S.C. 9701) and the Omnibus Appropriations Bill of 1996 (Pub. L. 104-134, 110 Stat. 1321, April 26, 1996), as further explained in OMB Circular A-25, authorize Federal agencies to recover the full cost of services that confer special benefits. All G&G permits are subject to cost recovery, and BOEM regulations specify service fees for these requests.

Regulations to carry out these responsibilities are contained in 30 CFR part 551 and are the subject of this information collection renewal. BOEM uses the information to:

• Authorize exploration to identify oil, gas, sulfur, and mineral resources in the OCS;

• Ensure the receipt of fair value for mineral resources;

• Ensure that the exploration activities do not cause harm to the environment or persons, or create unsafe operations and conditions, damage historical or archaeological sites, or interfere with other uses;

• Analyze and evaluate preliminary or planned drilling activities;

• Monitor progress and activities on the OCS;

• Acquire geological and geophysical data and information collected under a Federal permit offshore at cost of reproduction; and

• Determine eligibility for reimbursement from the government for certain costs.

In this renewal, BOEM is renewing Form BOEM-0327—Requirements for Geological or Geophysical Explorations or Scientific Research on the Outer Continental Shelf. This form consists of the requirements for geological and geophysical activities requiring Permits and Notices, along with the application that the respondent submits to BOEM for approval, as well as a nonexclusive use agreement for scientific research, if applicable.

Upon BOEM approval of the application, respondents are issued a permit using Form BOEM-0328, Permit for Geophysical Exploration for Mineral Resources or Scientific Research on the Outer Continental Shelf, for conducting geophysical exploration for mineral resources or scientific research, or Form BOEM-0329, Permit for Geological Exploration for Mineral Resources or Scientific Research on the Outer Continental Shelf, for conducting geological exploration for mineral resources or scientific research. These permits are filled in by BOEM and respondents do not incur an hour burden. However, BOEM plans to revise these permits to include additional language. The modifications to the permits will allow BOEM to request the G&G data prior to the permittee deleting or removing the data from records, but still provides the option for the permittee to no longer maintain the data after ten years. The following describes the proposed changes:

• Form BOEM-0328 would include additional language in Section IV Paragraph (A) stating:

“After a period of 10 years from the issuance of the permit, the permittee must notify the Supervisor in writing if their intention is to no longer maintain all or part of the geophysical data, processed geophysical information, and interpreted geophysical information, and provide the Supervisor 30 days to request that the permittee submit for inspection and possible retention all or part of the geophysical data, processed geophysical information, and interpreted geophysical information.”

• Form BOEM-0329 would include additional language in Section VI Paragraph (A) stating:

“After a period of 10 years from the issuance of the permit, the permittee must notify the Supervisor in writing if their intention is to no longer maintain all or part of the geological data, analyzed geological information, processed geological information, and interpreted geological information, and provide the Supervisor 30 days to request that the permittee submit for inspection and possible retention all or part of the geological data, analyzed geological information, processed geological information, and interpreted geological information.”

Title of Collection: 30 CFR 551, Geological and Geophysical Explorations of the OCS.

OMB Control Number: 1010-0048.

Form Number:

• BOEM-0327, Requirements for Geological or Geophysical Explorations or Scientific Research on the Outer Continental Shelf.

Type of Review: Revision of a currently approved collection.

Respondents/Affected Public: Potential respondents comprise Federal OCS oil, gas, and sulfur permittees or notice filers.

Total Estimated Number of Annual Responses: 688 responses.

Total Estimated Number of Annual Burden Hours: 35,254 hours.

Respondent's Obligation: Mandatory.

Frequency of Collection: On occasion, annual, or as specified in permit.

Total Estimated Annual Non-hour Burden Cost: $136,816.

Estimated Reporting and Recordkeeping Hour Burden: The currently approved OMB paperwork burden is 35,254 annual burden hours, and will remain the same.

A Federal Register notice with a 60-day public comment period soliciting comments on this proposed information collection request was published on October 25, 2019 (84 FR 57472). BOEM received three comment letters during the 60-day comment period. Comments received were from the American Petroleum Institute (API) and the International Association of Geophysical Contractors (IAGC), the Center for Regulatory Effectiveness, and a private citizen.

The API and IAGC comments from December 24, 2019 and BOEM's responses follow:

Comment: Industry finds the timeliness of the permit process for G&G activities to be open-ended and uncertain. The Associations recommend that BOEM establish a certain timeline for permit review and approval. The timing requirements for drilling permit review and approval is a good example that BOEM should strive to achieve for the G&G industry.

BOEM Response: Since 2012, BOEM has consistently issued Gulf of Mexico (GOM) Geological and Geophysical (G&G) permits within 70 days. At present, there is a great amount of uncertainty related to the issuance of G&G permits in the Atlantic. However, if decisions are made to allow for the collection of seismic data, the goal would be to issue future permits within reasonable and predictable timeframes. Permitting timeframes are outside the scope of this renewal.

Comment: We encourage BOEM to explore the creation of an electronic permit application process. Efficiencies for permit processing and man-hours may be realized through electronic permit applications. Many countries around the world utilize electronic permit application processes. This allows the applicant to monitor the status of the permit process and timely provide any information requests from BOEM. This has been seen to drastically decrease the permit process timeline.

BOEM Response: A web-based process for the electronic submission/issuance of BOEM G&G permitting is being considered for the future. Budgetary options are being explored.

Comment: G&G operations are consistently utilizing the same vessels throughout the offshore U.S. BOEM should take steps to create a catalogue of vessel information and certificates to reduce permitting costs and burden hours.

BOEM Response: BOEM currently captures some vessel information in our corporate database and is open to discussing how this information could be used to reduce permitting costs and burden hours in the future.

Comment: BOEM should develop a catalogue of equipment used in offshore G&G activities, including Ocean Bottom Nodes, Ocean Bottom Cables, Streamers, etc. This would reduce the time needed to collect pictures and physical samples of all parts and equipment deployed in the water column. Permit applications could then reference these materials to reduce time spent.

BOEM Response: BOEM currently captures some information related to the offshore equipment being used in offshore G&G activities in our corporate database. However, even when a permittee is proposing similar G&G activities that have been previously employed, there is variability in use, location, and advances to the technology that make each permit unique. BOEM must consider each case individually.

On December 19, 2019, the Center for Regulatory Effectiveness commented that BOEM should withdraw its petition to the National Marine Fisheries Service to issue a regulation governing the taking of marine mammals in the Gulf of Mexico.

BOEM Response: This comment is outside the scope of this information collection renewal. NMFS has the authority to authorize incidental take under the Marine Mammal Protection Act and the Endangered Species Act. BOEM has petitioned NMFS for the development of regulations governing incidental take of marine mammals related to conducting geophysical surveys during oil and gas exploration activities in the GOM. BOEM has identified areas where there is the potential to impact its mission under OCSLA in the GOM, and potentially other regions and programs, and its ability to manage the development of OCS energy and mineral resources in an environmentally responsible and practical way.

The NMFS proposed Incidental Take rulemaking, which is a separate process from this information collection renewal, allowed for public comments.

On October 25, 2019, a private citizen commented that far too much exploration is being allowed, explosions and high sonar work needs to be stopped, and would like BOEM to cut exploration back by seventy percent.

BOEM Response: OCSLA mandates that all G&G activities on the OCS be conducted in a safe and environmentally sound manner. BOEM uses information received to best understand and evaluate the proposed activity and equipment to be used, which helps to ensure that the appropriate site/activity environmental analysis is conducted in order to fulfill its statutory obligations.

BOEM is again soliciting comments on the proposed ICR that is described below. BOEM is especially interested in public comment addressing the following issues: (1) Is the collection necessary to the proper functions of BOEM; (2) what can BOEM do to ensure this information will be processed and used in a timely manner; (3) is the estimate of burden accurate; (4) how might BOEM enhance the quality, utility, and clarity of the information to be collected; and (5) how might BOEM minimize the burden of this collection on the respondents, including minimizing the burden through the use of information technology?

Comments that you submit in response to this notice are a matter of public record. BOEM will include or summarize each comment in its request to the Office of Management and Budget (OMB) for approval of this ICR. You should be aware that your entire comment—including your address, phone number, email address, or other personal identifying information—may be made publicly available at any time. In order for BOEM to withhold from disclosure your personally identifiable information, you must identify any information contained in the submittal of your comments that, if released, would clearly constitute an unwarranted invasion of your personal privacy. You must also briefly describe any possible harmful consequences of the disclosure of your information, such as embarrassment, injury, or other harm. While you can ask BOEM in your comment to withhold your personally identifiable information from public review, BOEM cannot guarantee that it will be able to do so.

BOEM protects proprietary information in accordance with the Freedom of Information Act (5 U.S.C. 552) and the Department of the Interior's implementing regulations (43 CFR part 2), and under regulations at 30 CFR parts 551 promulgated pursuant to the Outer Continental Shelf Lands Act (OCSLA) at 43 U.S.C. 1352(c).

An agency may not conduct or sponsor, and a person is not required to respond to, a collection of information unless it displays a currently valid OMB control number.

The authority for this action is the Paperwork Reduction Act of 1995 (44 U.S.C. 3501 et seq.).

Deanna Meyer-Pietruszka,
Chief, Office of Policy, Regulation, and Analysis.

[FR Doc. 2020-20948 Filed 9-22-20; 8:45 am]

BILLING CODE 4310-MR-P